DEPARTMENT OF TRANSPORTATION

Federal Aviation Administration

[Docket No. FAA-2006-26519]

Notice of a Proposed Change in Monitor Status of Air Navigational Aids

AGENCY: Federal Aviation Administration (FAA), DOT.

ACTION: Request for public comment.

SUMMARY: The Federal Aviation Administration is requesting public comment on a proposal to change the monitor status of select air navigational aids (NAVAIDS) at airports in the United States. The FAA is proposing that certain Instrument Landing Systems (ILS), Localizer Type Directional Aids (LDA), Microwave Landing Systems (MLS), and Non-Directional Beacons (NDB) become unmonitored.

The ILS NAVAIDS at the following airports are proposed to become unmonitored during the times that the control tower is closed. The associated ILS approaches for these airports are either not authorized for alternate airport filing purposes when the control tower is closed or the airport activity is low when the control tower is closed:

(1) Florence, South Carolina (FLO), ILS, Runway 9. (2) Joplin, Missouri (JLN), ILS, Runways 13 and 18. (3) Macon, Georgia (MCN), ILS, Runway 5. (4) Manhattan, Kansas (MHK), ILS, Runway 3. (5) Mobile, Alabama (MOB), ILS, Runways 14 and 32. (6) Missoula, Montana (MSO), ILS, Runway 11. (7) North Myrtle Beach, South Carolina (CRE), ILS, Runway 23. (8) Savannah, Georgia (SAV), ILS, Runways 9 and 36. (9) Tallahassee, Florida (TLH), ILS, Runway 36. (Tallahassee ILS, Runway 27 will not be affected because of its ILS Category II status.) (10) Walla Walla, Washington (ALW), ILS, Runway 20.

The following ILS NAVAIDS are proposed to become unmonitored due to low annual activity at the associated airport:

1) Bemidji, Minnesota (BJI) ILS, Runway 31. (2) Huron, South Dakota (HON), ILS, Runway 12. (3) Hoquiam, Washington (HQM), ILS, Runway 24. (4) International Falls, Minnesota (INL), ILS, Runway 31. (5) Liberal, Kansas (LBL), ILS, Runway 35. (6) Muscle Shoals, Alabama (MSL), ILS, Runway 29. (7) Norfolk, Nebraska (OFK), ILS, Runway 1.

The following NAVAIDS associated with non-precision approaches are proposed to become unmonitored:

(1) Charles City, Iowa (CCY), ILS Localizer, Runway 12. (2) Conrad, Montana (SO1), Conrad (CRD) NDB. (3) Elkins, West Virginia (EKN), LDA/DME. (4) Elko, Nevada (EKO), LDA/DME, Runway 23. (5) Miles City, Montana (MLS), Horton (HTN) NDB. (6) Mountain Home Municipal, Idaho (U76), Sturgeon (STI) NDB. (7) Ontario, Oregon (ONO), Ontario (ONO) NDB. (8) Pullman/Moscow ID, Washington (PUW), MLS. (9) Rawlins, Wyoming (RWL), Sinclair (SIR) NDB. (10) Wenatchee, Washington (EAT), MLS.

DATES: Comments must be received by January 19, 2007.

ADDRESSES: Written comments may be submitted [identified by Docket Number FAA-2006-26519] using any of the following methods:

DOT Docket Web site: Go to http://dms.dot.gov and follow the instructions for sending your comments electronically.

• Mail: Docket Management Facility; U.S. Department of Transportation, 400 Seventh Street, SW., Nassif Building, Room PL-401, Washington, DC 20590.

• Fax: 1-200-493-2251.

• Hand Delivery: Room PL-401 on the plaza level of the Nassif Building, 400 Seventh Street, SW., Washington, DC, between 9 a.m. and 5 p.m., Monday through Friday, except Federal holidays.

Privacy: All comments received will be posted, without change, to http://dms.dot.gov, including any personal information you provide (such as signatures on behalf of an association, business, labor union, or any other group). You may review DOT's complete Privacy Act Statement in the Federal Register published on April 11, 2000 (65 FR 19477-78) or by visiting http://dms.dot.gov.

Docket: To read the comments received, go to http://dms.dot.gov at any time or to Room PL-401 on the plaza level of the Nassif Building, 400 Seventh Street, SW., Washington, DC, between 9 a.m. and 5 p.m., Monday through Friday, except Federal holidays.

FOR FURTHER INFORMATION CONTACT: Dave Joyce, Technical Operations Services, AFSS Transition Lead; Mail Drop: AJW-24, Room 706, 800 Independence Avenue, SW., Washington, DC 20591, telephone (202) 493-4780; Fax (202) 267-5303; e-mail Dave.Joyce@faa.gov.

SUPPLEMENTARY INFORMATION:

Comments Invited

The FAA invites interested persons or organizations to submit written comments or views concerning this proposal. Please reference the Docket Number at the beginning of your comments. Comments should be specific and should explain the reason for your concurrence or non-concurrence with the proposal, including supporting data.

Please send two (2) copies of your comments to one of the addresses listed in the ADDRESSES section of this document.

All comments submitted will be available for public viewing either in person or online, including any personal information you provide. Please refer to the PRIVACY section of this document.

Issued in Washington, DC on December 12, 2006.
Richard Thoma,
Director, Safety and Operations Support Office, Technical Operations Services.

[FR Doc. 06-9776 Filed 12-19-06; 8:45 am]

BILLING CODE 4910-13-M